DEPARTMENT OF JUSTICE

Notice of Lodging of Consent Decree Under the Comprehensive Environmental Response Compensation and Liability Act (“CERCLA”)

Pursuant to 28 CFR 50.7, notice is hereby given that on June 2, 2005, a proposed Consent Decree in the case of United States v. Stauffer Management Company LLC and Bayer CropScience Inc., Civil Action No. 8:05-cf-1024, was lodged with the United States District Court for the Middle District of Florida.

In this action, the United States sought injunctive relief and recovery of response costs under Sections 106(a) and 107 of CERCLA, 42 U.S.C. 9606(a) and 9607, to remedy conditions in connection with the release or threatened release of hazardous substances into the environment at the Stauffer Chemical Superfund Site in Tarpon Springs, Florida (hereinafter referred to as the “Site”). The Settlers under the proposed Consent Decree, Stauffer Management Company LLC and Bayer CropScience Inc. (or their corporate predecessors), own the Site or owned it at the time of disposal of hazardous substances at the Site.

Under a proposed Consent Decree, the Settlors have agreed to perform the remedy chosen by EPA to clean up the Site, to pay $207,548 toward EPA's unreimbursed past response costs, and to pay EPA's future response costs incurred in connection with the Site.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Stauffer Management Company LLC and Bayer CropScience Inc., D.J. Ref. 90-11-2-1227/3.

The Consent Decree may be examined at U.S. EPA Region 4, 61 Forsyth Street, Atlanta, Georgia, 30303—Attn: Rudolph Fanasijevich. During the public comment period, the Consent Decree, may also be examined on the following Department of Justice Web site, http://www.usdoj.gov/enrd/open.html.

A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Decree from the Consent Decree Library, please enclose a check in the amount of $52.50 (25 cents per page reproduction cost for 210 pages) payable to the U.S. Treasury.

Ellen M. Mahan,
Assistant Section Chief, Environmental Enforcement Section.

[FR Doc. 05-12391 Filed 6-22-05; 8:45 am]

BILLING CODE 4410-15-M